DEPARTMENT OF THE TREASURY

Submission for OMB Review; Comment Request

November 12, 2010.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before December 20, 2010 to be assured of consideration.

Alcohol and Tobacco Tax and Trade Bureau (TTB)

OMB Number: 1513-0007.

Type of Review: Revision of a currently approved collection.

Title: Brewer's Report of Operations and Brew pub Report of Operations.

Form: TTB F 5130.9; TTB F 5130.26.

Abstract: Brewers periodically file these reports of their operations to account for activity relating to taxable commodities. TTB uses this information primarily for revenue protection, for audit purposes, and to determine whether the activity is in compliance with the requirements of law. We also use this information to publish periodical statistical releases of use and interest to the industry.

Respondents: Private Sector: Businesses or other for-profits.

Estimated Total Burden Hours: 12,152 hours.

OMB Number: 1513-0015.

Type of Review: Revision of a currently approved collection.

Title: Brewer's Bond and Brewer's Bond Continuation Certificate/Brewer's Collateral Bond and Brewer's Collateral Bond Continuation Certificate.

Form: TTB F 5130.22; TTB F 5130.25; TTB F 5130.27; TTB F 5130.23.

Abstract: The Internal Revenue Code requires brewers to give a bond to protect the revenue and to ensure compliance with the requirements of law and regulations. The Continuation Certificate is used to renew the bond every 4 years after the initial bond is obtained. Bonds and continuation certificates are required by law and are necessary to protect government interests in the excise tax revenues that brewers pay.

Respondents: Private Sector: Businesses or other for-profits.

Estimated Total Burden Hours: 380 hours.

OMB Number: 1513-0036.

Type of Review: Extension without change of a currently approved collection.

Title: Signing Authority for Corporate Officials.

Form: TTB F 5100.1.

Abstract: TTB F 5100.1 is used to document the authority of an individual or office to sign for the corporation in TTB matters. The form identifies the corporation, the individual or, office authorized to sign, and documents the authorization.

Respondents: Private Sector: Businesses or other for-profits.

Estimated Total Burden Hours: 250 hours.

OMB Number: 1513-0041.

Type of Review: Extension without change of a currently approved collection.

Title: Monthly Report of Processing Operations—TTB REC 5110/03.

Form: TTB F 5110.28.

Abstract: The information collected accounts for and verifies the processing of distilled spirits in bond. It is used to monitor proprietor activities, in auditing plant operations, compiling statistics.

Respondents: Private Sector: Businesses or other for-profits.

Estimated Total Burden Hours: 5,737 hours.

OMB Number: 1513-0095.

Type of Review: Extension without change of a currently approved collection.

Title: Application for Registration for Tax-Free Transactions Under 26 U.S.C. 4221.

Form: TTB F 5300.28.

Abstract: Businesses, State and local governments apply for registration to sell or purchase firearms or ammunition tax-free on this form. TTB uses the form to determine if a transaction is qualified for tax-free status.

Respondents: State, Local, and Tribal Governments.

Estimated Total Burden Hours: 951 hours.

Clearance Officer: Gerald Isenberg, Alcohol and Tobacco Tax and Trade Bureau, Room 200 East, 1310 G Street, NW., Washington, DC 20005; (202) 453-2097.

OMB Reviewer: Shagufta Ahmed, Office of Management and Budget, New Executive Office Building, Room 10235, Washington, DC 20503; (202) 395-7873.

Celina M. Elphage,
Treasury PRA Clearance Officer.

[FR Doc. 2010-29029 Filed 11-17-10; 8:45 am]

BILLING CODE 4810-31-P